DEPARTMENT OF HEALTH AND HUMAN SERVICES

Health Resources and Services Administration

[HRSA 03-104]

State Planning Grants (SPG)

AGENCY: Health Resources and Services Administration, HHS.

ACTION: Notice of availability of funds.

SUMMARY: The Health Resources and Services Administration (HRSA) announces the availability of approximately $15 million to provide supplemental grants to States that have previously received planning grants in order to assist such States in continuing their data gathering, analysis, and planning processes, and to support approximately ten new State grants for the development of approaches to provide access to health insurance coverage for all State residents. This funding has been appropriated under the Fiscal Year (FY) 2003 HHS Appropriations Act.

In FY 2003, HRSA, through its State Planning Grants (SPG) Program, will accept applications from (1) States which have previously received SPG grant funds to enhance and refine activities already conducted with an average grant award of approximately $150,000 and (2) States which have never received SPG grant funds with a grant award ranging from $800,000 up to $1.2 million. These grants will be used, over a 12-month period, (1) to enhance and refine work already conducted with previous SPG grant funds; and (2) for new States to identify the characteristics of the uninsured within the State and develop approaches for providing all uninsured persons with access to health coverage. States will be expected to design approaches that provide affordable health insurance benefits similar in scope to the Federal Employees Health Benefit Plan, Medicaid, coverage offered to State employees, or other similar quality benchmarks. Each State receiving such grants must submit the study and analysis results in the form of a report to the Department that identifies the characteristics of the uninsured within the State and proposals for providing them with access to health insurance coverage. Together, these reports will provide additional data about the characteristics of the uninsured generally and potential models for other States seeking to provide comprehensive coverage.

Where to Request and Send an Application: To obtain the official grant application kit (PHS Form 5161-1) contact the HRSA Grants Application Center at, 1-877-477-2123, fax: 1-877-477-2345, e-mail: hrsagac@hrsa.gov and request the Office of Management and Budget Catalog of Federal Domestic Assistance Number #93.256, Program Code SPGP, and HRSA #03-104. Please mail completed applications to the HRSA Grants Application Center, 901 Russell Avenue, Suite 450, Gaithersburg, MD 20879.

It is anticipated that there will be a pre-application workshop in the Washington, DC area. For more information concerning this workshop, contact the SPG Office at 301 443-2309.

Application Deadline: Applications for grants from States which have previously received SPG grant funds must be received in HRSA's Division of Grants Management Operations by close of business July 14, 2003. Applications for grants from States which have never received SPG grant funds must be received in the HRSA Grants Application Center by close of business July 28, 2003. Applications shall be considered as meeting the deadline if they are received on or before the deadline date.

FOR FURTHER INFORMATION CONTACT: For further information contact Ms. Judy Humphrey, Health Resources and Services Administration, Parklawn Building, Room 16C-17, 5600 Fishers Lane, Rockville, MD 20857, Phone: (301) 443-2309, Fax: (301) 443-1267, Email: JHumphrey@hrsa.gov.

SUPPLEMENTARY INFORMATION: In 2001, 41.2 million people in the United States did not have health insurance. This is roughly 1 out of every 6 non-elderly Americans. Of these, 24.2 million were employed—19.0 million worked full time and 5.2 million worked part-time. Nationally, over 8.5 million children or 11.7 percent are uninsured. Every year, approximately a million Americans lose their health coverage. There is considerable public and private support for examining and implementing new models for providing access to affordable health coverage.

Many States are currently experiencing fiscal challenges. However, covering the uninsured continues to be a priority for many States. Every State has responded to the opportunity provided by the State Children's Health Insurance Program (SCHIP) to implement a program that provides health insurance coverage for uninsured low-income children. Many States have also expanded Medicaid coverage to uninsured children and adults, using existing options, such as section 1115 waiver authority, as well as increased flexibility under welfare reform to cover working parents. Eight States have used the administration's new Health Insurance Flexibility and Accountability (HIFA) initiative, a section 1115 demonstration approach announced in August 2001 that emphasizes coverage expansions. Some States are working towards enhancing coordination of publicly-funded health programs, such as health departments and community health centers. States have also undertaken activities that seek to expand insurance coverage through mechanisms other than Federally-financed programs (e.g., high risk pools and insurance market changes).

The private sector has expressed an interest in supporting States' efforts to expand coverage for the uninsured. The Robert Wood Johnson Foundation has implemented the State Coverage Initiatives (SCI), a major technical assistance endeavor that will build on the successes and lessons learned in its earlier States Initiatives in Health Care Reform. The program seeks to improve the practical capacity of State governments in their quest to decrease the number of uninsured Americans and has an emphasis on policy development and technical assistance. The SCI Program provides resources for technical assistance that States can use to analyze data, diagnose problems, identify solutions, and develop new strategies and policies. It offers small policy planning grants and for a few States, larger scale demonstration grants.

In March 2003, a group of health foundations and national organizations, including the Robert Wood Johnson Foundation, The California Endowment, and the W.K. Kellogg Foundation, conducted an educational and advertising campaign entitled Cover the Uninsured Week in an effort to sensitize the public and opinion leaders to the plight of the more than 41 million Americans who lack health insurance. The unprecedented series of national and local activities was designed to raise public awareness of the plight of more than 41 million uninsured Americans; demonstrate broad support for action on the issue; generate significant media attention to the issue, both nationally and in key communities across the country; encourage other national organizations to join The Robert Wood Johnson Foundation and 18 partner organizations in an effort to increase attention to the issue; and create a single rallying point for groups and individuals working to extend health care coverage to the uninsured.

At the Federal level, the HHS is committed to assisting States as they examine their options for expanding health insurance benefits. By providing State planning grants, the HRSA SPG Program intends to encourage States to provide access to affordable health insurance coverage for all its citizens. Each grantee State will receive resources for necessary planning as well as assistance in researching and identifying policy options. Together, the results of each State's analysis of its uninsured population and its proposals for providing these individuals with access to health insurance coverage will provide additional data about the characteristics of the uninsured generally and present models for other States seeking to provide such comprehensive coverage.

SPG shares some of the same goals as and focus of the Robert Wood Johnson Foundation's State Coverage Initiatives and the Health Policy Studies Division of the National Governors' Association Center for Best Practices. Thus, whenever possible, SPG will coordinate its efforts with activities of these programs to share information about insurance trends, best practices, data and analyses, and technical assistance.

State Planning Grants for States Which Have Previously Received SPG Grant Funds

Program Purpose

The purpose of supplemental SPG grants for States which have previously received SPG grant funds is to assist such States in continuing their data gathering, analysis and planning processes. The supplemental grant will allow States to enhance, refine, and update the work of their initial SPG award to plan to provide all uninsured persons with health coverage. Not only will the grantee State benefit from further analyses, but by submitting a summary of these analyses and proposed plan at the end of the supplemental grant period in an addendum report to the Department, other States may learn about successful or innovative ways to provide access to coverage. In addition, HHS will have the opportunity to review these reports and gain insight into effective methods of supporting such endeavors.

Program Goal

The overarching SPG goal is to encourage States to provide access to health insurance coverage to all uninsured citizens by providing the resources needed to develop successful plans and to provide a number of data collection and planning strategies, along with viable insurance expansion options to consider. The immediate goal of SPG for those States which have previously received SPG grant funds is to assist such States in continuing their data gathering, analysis and planning processes for programs that provide health insurance coverage to all uninsured citizens in the State through expanded State, Federal, and private partnerships.

Program Description

The approximately $15 million in available funding for all SPG grant activities has been appropriated under the FY 2003 Labor-HHS Appropriations Act. The HRSA, Office of Special Programs, SPG Program, will oversee the program. The program will provide supplemental grants to States which have previously received SPG grant funds, whose size will vary, with an average grant award of approximately $150,000 for the 31 States and 1 Territory which have previously received SPG grant funds. The total amount of funds set aside for supplemental grants is approximately $4.0 million.

During FY 2003, SPG will support 1-year supplemental planning grants to States which have previously received SPG grant funds to (1) as applicable, further collect and analyze data that describe the characteristics of their uninsured and assist in the design of approaches to provide access to affordable coverage, (2) enhance, refine, and/or update the design of a program that would provide all uninsured with access to insurance benefits similar in care to State employee coverage, Federal Employees Health Benefit Plan, Medicaid or other similar quality benchmarks, through a State, Federal, and private partnership, (3) prepare an addendum report to the Department describing the findings of the new activities and how they relate to previously conducted activities, and (4) within 30 days after the end of the grant period, provide an addendum report to the Department describing any changes to original proposals for an expanded State, Federal, and private partnership to cover all of their uninsured.

The successful State applicant for supplemental SPG grant funds will demonstrate a continued commitment to reducing its uninsured population; will demonstrate a continued commitment by its Executive Branch to studying the possibilities for providing health insurance coverage to all uninsured; and will present a comprehensive description and justification for the activities proposed to be conducted with supplemental SPG grant funds. Activities may include, but are not limited to additional data collection, analysis of that data, use of the analyses to enhance, refine, and update an approach or approaches for covering all uninsured, and a refined strategy for implementing and funding that approach. The successful applicant will continue to work with all appropriate health-related State agencies, including the Medicaid agency, the budget office, and other relevant departments (e.g., insurance, public health, human services, mental health and substance abuse, and aging). The State applicant should also demonstrate continued communication with the health committees in the State legislature about the proposal. Formal collaboration should continue to exist with private sector organizations (including both business and the health care provider communities), consumer groups, and researchers.

Eligible Applicants

All States which have previously received State Planning Grant funds are eligible to apply for supplemental funds to assist such States in continuing their data gathering, analysis and planning processes to enhance and refine existing plans. Only one agency or entity may apply per State and it must be a part of the State government. A letter from the Governor authorizing this entity or agency to apply for the supplemental funds should accompany the application, unless the request is from the entity which was awarded the original grant.

Funding Criteria

Review criteria that will be used to evaluate applications from States which have previously received State Planning Grant funds include the extent to which the application provides:

A detailed description of activities and results that have been accomplished with previously received SPG grant funds.

A detailed description of the activities proposed to be conducted with the supplemental funds and how these activities will enhance and build upon the activities already completed and as applicable, be integrated with the activities yet to be completed, with the previously received SPG grant funds.

A description of the anticipated results of these proposed tasks and how they will expand health insurance coverage options to the uninsured.

A description of the technical capacity, resources, and collaboration needed to successfully carry out the proposed activities and provide the required report to the Department.

An accountable management and budget plan with time lines, demonstrating readiness of the State government to conduct the proposed supplemental activities which will result in new or refined approaches to providing access to coverage and determine strategies for implementing and funding such approaches. States should provide an explanation of how they will contract for needed technical assistance, if necessary. For those States with existing State Planning grants, the integration of proposed work with work not yet completed is required.

A description of how the proposed supplemental activities will augment earlier efforts to the report to the Department.

Report Contents

The grant funding provided to States which have previously received SPG grant funds, will assist States to enhance and refine models for providing access to health insurance coverage for all citizens of the State. Each grantee State who receives supplemental SPG grant funds, will be required to prepare an addendum report to the Department that describes the results of the supplemental activities and how these activities have augmented earlier efforts.

Use of Grant Funds

Funding provided through this program may not be used to substitute for or duplicate funds currently supporting similar activities. In addition, grant funds may not be used to support construction, renovation or modernization costs. However, grant funds may support costs such as project staff salaries, consultants, project-related travel, project evaluation, limited equipment and software purchases or leases, and coordinating project-related meetings.

Expected Results

The implementation of supplemental State Planning grant funds is expected to result in the further development of a plan that the State might subsequently implement to provide health insurance coverage to all citizens of the State. In addition, the grantee States will provide information about data collection activities, partnerships, and options that other States may draw from in their efforts to expand health insurance coverage.

State Planning Grants for States Which Have Never Received SPG Grant Funds

Program Purpose

The purpose of SPG is to have each new grantee State develop a plan or propose options that would ensure every citizen in that State access to affordable health insurance benefits similar in scope to the Federal Employees Health Benefit Plan, Medicaid, benefits offered to State employees or other similar quality benchmarks. Not only will the grantee State benefit from its analysis, but by submitting a summary of this analysis and proposed plan at the end of the grant period in a report to the Department, other States may learn about successful or innovative ways to provide access to coverage. In addition, HHS will have the opportunity to review these reports and gain insight into effective methods of supporting such endeavors.

Program Goal

The overarching SPG goal is to encourage States to provide access to health insurance coverage to all uninsured citizens by providing the resources needed to develop successful plans and to provide a number of data collection and planning strategies, along with viable insurance expansion options to consider. The immediate goal of SPG is to assist States as they collect and analyze data, develop coverage options or design programs that provide health insurance coverage to all uninsured citizens in the State through expanded State, Federal, and private partnerships.

Program Description

The approximately $15 million in available funding for all SPG grant activities has been appropriated under the FY 2003 Labor-HHS Appropriations Act. The HRSA, Office of Special Programs, State Planning Grants Program, will oversee the program. Up to 10 new awards are anticipated which will vary in size, with a grant award ranging from $800,000 up to $1.2 million. The total amount of funds for new grants is approximately $10.0 million.

During FY 2003, SPG will support one-year planning grants to States to (1) collect and analyze data that describe the characteristics of their uninsured and assist in the design of approaches to provide access to affordable coverage, (2) design a program that would provide all uninsured with access to insurance benefits similar in care to State employee coverage, Federal Employees Health Benefit Plan, Medicaid or other similar quality benchmarks, through a State, Federal, and private partnership, (3) prepare a report to the Department describing these findings, and (4) within 30 days after the end of the grant period, provide the report to the Department describing proposals for an expanded State, Federal, and private partnership to cover all of their uninsured.

The successful State applicant will have a demonstrated commitment to reducing its uninsured population; will demonstrate commitment by its Governor and Executive Branch to studying the possibilities for providing health insurance coverage to all uninsured; and will present a comprehensive proposal for the kinds of data to be collected, analysis of that data, use of the analyses to create an approach for covering all uninsured, and a strategy for implementing and funding that approach. The successful applicant will work with all appropriate health-related State agencies, including the Medicaid agency, the budget office, and other relevant departments (e.g., insurance, public health, human services, mental health and substance abuse, and aging). If possible, the applicant should demonstrate communication with the health committees in the State legislature about the proposal. Formal collaboration must exist with private sector organizations (including both business and the health care provider communities), consumer groups, and researchers.

We are looking for applicants with a clear commitment to the goal of providing coverage to all uninsured and an operational plan for using these planning grants to help achieve that goal. As such, funded State planning grants will contain these common elements:

A goal of providing access to affordable health insurance coverage to all citizens in the State—Access to affordable coverage for this grant program means that individuals or families have the opportunity to purchase health insurance coverage or participate in a program that provides adequate benefits at an affordable cost. States may ensure “affordability” by determining cost-sharing based on the beneficiary's income level and applying a sliding scale related to income, or implementing other cost-sharing protections such as spending caps. For example, in non-Medicaid SCHIP programs, for children in families with income levels above 150 percent of the Federal poverty line, cost-sharing may be imposed on a sliding scale related to income, but the total annual aggregate cost-sharing for all targeted low-income children in the family cannot exceed 5 percent of the family's annual income.

Citizens of the State—If Federal funds are proposed to be used, States should plan their coverage options based on existing Federal eligibility criteria for participation in the Medicaid, SCHIP, and Medicare programs. States may use State funds or other resources to cover non-citizen residents.

Commitment to eliminating the number of uninsured—Grantee States must demonstrate prior efforts, whether or not approved by their State Legislatures, to reduce their number of uninsured through program expansions, data collection activities to support further expansions and/or other activities demonstrating a commitment to providing increased access to health insurance for its citizens.

Collaboration among State, Federal, and private partners—Grantee States should build upon current collaborations among State, Federal, and private partners for expanding health insurance coverage to all citizens within the State. States are encouraged to consult with Tribal governments, where appropriate. These collaborations should be formal and should include the leadership of public and private partners.

Capacity for data collection and analysis—Grantee States should demonstrate data collection and analytical capacity or a detailed plan for acquiring this technical assistance, including a commitment from the agency/organization to provide this technical assistance. States are encouraged to work with the many existing Federal and State data collection activities, as well as ongoing efforts in the private, non-profit sector.

Eligible Applicants

Eligibility for new grants is limited to States which have never received SPG grant funds with only one application per State permitted. Each Governor is asked to designate the entity or agency responsible for preparing the State's grant application. The entity or agency must be a part of the State government. A letter from the Governor authorizing this entity or agency to prepare the State's application should accompany the application.

Funding Criteria

Review criteria that will be used to evaluate applications from States which have not previously received State Planning Grant funds includes:

Evidence of commitment by the Governor, State agencies, and public and private health care providers to provide coverage to all uninsured.

Evidence of prior data collection and analysis resulting in efforts to expand coverage to the uninsured.

Evidence of meaningful collaboration between the agencies and constituencies in the public and private sectors necessary to successfully complete the analysis and submit the required report to the Department.

A demonstrated understanding of the technical capacity, resources, and collaboration necessary to successfully carry out the proposed analysis and provide the required report to the Department.

An accountable management and budget plan with time lines, demonstrating readiness of the State government to conduct the data collection, analyze the data, develop approaches to providing access to coverage, and determine strategies for implementing and funding such approaches. States should provide an explanation of how they will contract for needed technical assistance, if necessary.

Report Contents

The new grant funding provided to States, which have not previously received SPG grant funds, will assist States to develop models for providing access to health insurance coverage for all citizens of the State. As a result, each grantee State will prepare a report to the Department that provides:

A detailed plan for data collection and analysis, upon which the State will base its design for covering its uninsured.

Its strategy for gaining collaboration and consensus among State, Federal, and private partners on options to expand health insurance coverage to all citizens.

Options for expanding health insurance coverage through State, Federal, and private partnerships. The following options and issues are areas that the State may wish to address, if relevant in the State. These options and issues include (1) targeting expansion groups such as parents of SCHIP children, young adults ages 19-20, and early retirees; (2) delivery systems; (3) administration; (4) outreach; (5) eligibility levels; (6) eligibility determination process; (7) enrollment process; (8) marketing plan; (9) coverage and benefits (similar to State, Federal employees, Medicaid, and other credible coverage); (10) portability; (11) cost-sharing (co-pays, premiums); (12) integration with existing public and private programs (e.g., Medicaid, Medicare, and SCHIP coverage, State programs, projects proposed through the Community Access Program); (13) plans for studying or avoiding crowd-out-interaction with employer-sponsored insurance; (14) cost-containment; (15) ensuring quality; (16) ensuring access; (17) data collection; (18) audits; (19) program budget; (20) program evaluations; (21) funding; (22) maintenance of effort; (23) necessary waivers (under existing program authority); (24) necessary State or Federal legislative changes (not under current authority); and (25) private sector options (e.g., high risk pools, employer options, market reforms). States that propose or prepare waivers or State plan amendments (e.g., Medicaid waivers, SCHIP amendments) as a result of their grant activities must submit their requests through existing review processes established by the Centers for Medicare and Medicaid Services.

Use of Grant Funds

Funding provided through this program may not be used to substitute for or duplicate funds currently supporting similar activities. In addition, grant funds may not be used to support construction, renovation or modernization costs. However, grant funds may support costs such as project staff salaries, consultants, project-related travel, project evaluation, limited equipment and software purchases or leases, and coordinating project-related meetings.

Expected Results

The implementation of State Planning grants is expected to result in the development of a plan that the State might subsequently implement to provide health insurance coverage to all citizens of the State. In addition, the grantee States will provide information about data collection activities, partnerships, and options that other States may draw from in their efforts to expand health insurance coverage.

Paperwork Reduction Act: Should any data collection activities fall under the purview of the PRA, OMB clearance will be sought. PHS Form 5161.1—CFDA 93.256.

Dated: May 22, 2003.
Elizabeth M. Duke,
Administrator.

[FR Doc. 03-13392 Filed 5-28-03; 8:45 am]

BILLING CODE 4165-15-P